NATIONAL SCIENCE FOUNDATION

Notice of Permit Applications Received Under the Antarctic Conservation Act of 1978 (Pub. L. 95-541)

AGENCY: National Science Foundation.

ACTION: Notice of Permit Applications Received under the Antarctic Conservation Act of 1978, Pub. L. 95-541.

SUMMARY: The National Science Foundation (NSF) is required to publish notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by June 10, 2010. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas requiring special protection. The regulations establish such a permit system to designate Antarctic Specially Protected Areas.

The applications received are as follows:

Permit Application No. 2011-003

1. Applicant, Diana H. Wall, Natural Resource Ecology Laboratory, Colorado State University, 200 West Lake, Fort Collins, CO 80523-1499.

Activity for Which Permit is Requested

Enter Antarctic Specially Protected Areas (ASPA) and Import into the USA. The applicant plans to enter the Canada Glacier area (ASPA 131) to collect a number of soil and sediment samples that represent all microhabitats found in the area. The microhabitats in question includes barren dry soils, moist to wet soils, and soils and sediment associated with mosses, lichens and algal mats. The applicant will extract nematodes, tardigrades and rotifers from these soils for identification and classification. The collection of these samples will help to investigate the distribution of soil fauna within the McMurdo Dry Valleys and their influence on the ecosystem function, and to understand the implications of future climate changes.

Location

Canada Glacier (ASPA 131), Taylor Dry Valley.

Dates

December 2, 2010 to January 31, 2011.

Nadene G. Kennedy,
Permit Officer, Office of Polar Programs.

[FR Doc. 2010-11023 Filed 5-10-10; 8:45 am]

BILLING CODE 7555-01-P